INTERNATIONAL TRADE COMMISSION

[USITC SE-18-016]

Sunshine Act Meetings

Time and Date: March 29, 2018 at 11:00 a.m.

Place: Room 101, 500 E Street SW, Washington, DC 20436, Telephone: (202) 205-2000.

Status: Open to the public.

Matters to be Considered:

1. Agendas for future meetings: None.

2. Minutes.

3. Ratification List.

4. Vote in Inv. No. 731-TA-891 (Third Review) (Foundry Coke from China). The Commission is currently scheduled to complete and file its determination and views of the Commission by April 26, 2018.

5. Outstanding action jackets: None.

In accordance with Commission policy, subject matter listed above, not disposed of at the scheduled meeting, may be carried over to the agenda of the following meeting.

By order of the Commission.
Issued: March 12, 2018.
William R. Bishop,
Supervisory Hearings and Information Officer.

[FR Doc. 2018-05341 Filed 3-13-18; 11:15 am]

BILLING CODE 7020-02-P